DEPARTMENT OF DEFENSE

Office of the Secretary

[Transmittal Nos. 13-19]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-19 with attached Transmittal and Policy Justification.

Dated: August 2, 2013.
Aaron Siegel,
Alternate OSD Federal Register Liaison Officer, Department of Defense.

Transmittal No. 13-19

Notice of Proposed Issuance of Letter of Offer Pursuant to Section 36(b)(1) of the Arms Export Control Act, as amended

(i) Prospective Purchaser: Iraq

(ii) Total Estimated Value:

Major Defense Equipment * | $ 450 million
Other | $ 450 million
TOTAL | $ 900 million

(iii) Description and Quantity or Quantities of Articles or Services under Consideration for Purchase: 50 M1135 Stryker Nuclear, Biological, and Chemical Reconnaissance Vehicles, DECON 3000 Decontamination Systems, M26 Commercial Joint Service Transportable Decontamination Systems (JSTDS), AN/VRC-89 Single Channel Ground and Airborne Radio Systems (SINCGARS) with Global Positioning System (GPS), AN/VRC-90 SINCGARS with GPS, M40A1 Protective Masks, Lightweight Personal Chemical Detectors LCD-3, Portable Chemical Warfare Agent Detectors GID-3, MultiRAE PLUS Gas Detectors, AN/VDR-2 Radiac Sets, M256 Chemical Agent Detector Kits, Decontamination Kits, Chemical Biological Mask Canisters, M8 Chemical Paper Agent Detector Kits, water canteens, individual clothing and equipment, spare and repair parts, support equipment, publications and technical data, personnel training and training equipment, site surveys, a Quality Assurance Team, U.S. Government and contractor technical assistance, and other related elements of program and logistics support.

(iv) Military Department: U.S. Army (UGV)

(v) Prior Related Cases, if any: None

(vi) Sales Commission, Fee, etc., Paid, Offered, or Agreed to be Paid: None

(vii) Sensitivity of Technology Contained in the Defense Article or Defense Services Proposed to be Sold: None

(viii) Date Report Delivered to Congress: 25 July 2013

* as defined in Section 47(6) of the Arms Export Control Act.

POLICY JUSTIFICATION

Iraq—M1135 Stryker Nuclear, Biological, and Chemical Reconnaissance Vehicles

The Government of Iraq has requested a possible sale of 50 M1135 Stryker Nuclear, Biological, and Chemical Reconnaissance Vehicles, DECON 3000 Decontamination Systems, M26 Commercial Joint Service Transportable Decontamination Systems (JSTDS), AN/VRC-89 Single Channel Ground and Airborne Radio Systems (SINCGARS) with Global Positioning System (GPS), AN/VRC-90 SINCGARS with GPS, M40A1 Protective Masks, Lightweight Personal Chemical Detectors LCD-3, Portable Chemical Warfare Agent Detectors GID-3, MultiRAE PLUS Gas Detectors, AN/VDR-2 Radiac Sets, M256 Chemical Agent Detector Kits, Decontamination Kits, Chemical Biological Mask Canisters, M8 Chemical Paper Agent Detector Kits, water canteens, individual clothing and equipment, spare and repair parts, support equipment, communication equipment, publications and technical data, personnel training and training equipment, site surveys, a Quality Assurance Team, U.S. Government and contractor technical assistance, and other related elements of program and logistics support. The estimated cost is $900 million.

This proposed sale will contribute to the foreign policy and national security of the United States by helping to improve the security of a strategic partner. This proposed sale will contribute to Iraq's stability and sovereignty by increasing its situational awareness and ability to identify potential Chemical, Biological, Radiological and Nuclear (CBRN) agents. This proposed sale directly supports the Iraqi government and serves the interests of the Iraqi people and the United States.

This equipment provides the Iraqi Army CBRN reconnaissance units with reliable capabilities for early warning of contamination by radiological, biological, and chemical material. Overall, these systems meet the requirements of providing the Iraqi Army with the ability to conduct CBRN reconnaissance techniques of search, survey, surveillance, and sampling to reduce the effects of exposure to these hazardous agents.

The proposed sale of this equipment and support will not alter the basic military balance in the region.

The principal contractors involved in this program are General Dynamics Land System of Sterling Heights, Michigan; Karcher Futuretech of Schwailheim, Germany; DRS Technologies of Florence, Kentucky; Smiths Detection of Danbury, Connecticut; and Federal Resources of Stevensville, Maryland. There are no known offset agreements proposed in connection with this potential sale.

Implementation of this proposed sale will require approximately 35 U.S. Government or contractor representatives to travel to Iraq for a period of up 2 years to provide management and training.

There will be no adverse impact on U.S. defense readiness as a result of this proposed sale.

[FR Doc. 2013-19118 Filed 8-7-13; 8:45 am]

BILLING CODE 5001-06-P